FEDERAL COMMUNICATIONS COMMISSION

[DA 02-2049]

Interim Filing and Certification Requirements Regarding Submission of Contracts with Assignment/Transfer of Control Applications

AGENCY: Federal Communications Commission.

ACTION: Notice.

SUMMARY: In this Public Notice, the Media Bureau implements a Federal Communications Commission directive to relax the requirement that assignment of license/transfer of control applicants submit a complete and unredacted copy of the sale contract with each assignment/transfer application. Such applicants may exclude contract attachments not material to the Commission's analysis of the transaction, provided that they also submit an exhibit describing each of the omitted documents, stating both the specific reason(s) for the omission and the basis for the determination that the omitted documentation is not material to the Commission's consideration of the subject application.

DATES: Effective August 22, 2002.

ADDRESSES: Federal Communications Commission, 445 12th Street, SW., Washington, DC 20554.

FOR FURTHER INFORMATION CONTACT: Nina Shafran, Deputy Chief, Audio Division, Media Bureau, Federal Communications Commission, (202) 418-2781.

SUPPLEMENTARY INFORMATION: The text of the Public Notice is as follows:

The Instructions to FCC Forms 314 (Application for Consent to Assignment of Broadcast Station Construction Permit or License), 315 (Application for Consent to Transfer Control of Entity Holding Broadcast Station Construction Permit or License), and 316 (Short-Form Application for Consent To Assign Broadcast Construction Permit or License or Transfer of Control of Entity Holding Broadcast Station Construction Permit or License) currently require the filing of “a complete and final copy of the unredacted contract for the sale of the authorizations * * *, including all exhibits and attachments.” Applicants also must certify whether they have complied with this requirement.

In a Memorandum Opinion and Order released today, the Commission concludes that the contract submission requirements should be relaxed to permit applicants to exclude contract attachments that are not material to the Commission's analysis of the transaction and directs the staff to revise the Forms' Instructions and certifications accordingly. See LUJ, Inc., Assignor, FCC No. 02-235 (released August 22, 2002) (the “LUJ Decision”) ¶ 7. Until the revised Forms are issued, the Media Bureau hereby announces interim filing and certification procedures, effective immediately, as set forth in the LUJ Decision. Applicants that submit a complete and final copy of the sales contract, including all exhibits and attachments, may respond “Yes” to the applicable Item of the relevant Form. Applicants—Assignors/Licensees/Transferors and Assignees/Transferees alike—that choose to omit certain of the transaction documents which contain information that is not material for Commission processing purposes must respond “No” to the applicable Item of the Form. In the latter circumstance, applicants must also submit an exhibit describing each of the omitted documents, stating both the specific reason(s) for the omission and the basis for the determination that the omitted documentation is not material to the Commission's consideration of the subject application. Examples of documents that normally would not be material to the Commission's processing of the application are employee benefit plans and lists of vendor supply contracts being assumed by the buyer.

We remind applicants that the failure to submit documentation containing all material terms of an agreement for the assignment or transfer of control of a broadcast authorization, including the sales price, will delay processing of the application and may result in the Bureau providing the public with an additional thirty-day public comment period following the submission of all such documentation.

Federal Communications Commission.
Marlene H. Dortch,
Secretary.

[FR Doc. 02-22593 Filed 9-4-02; 8:45 am]

BILLING CODE 6712-01-P